OFFICE OF MANAGEMENT AND BUDGET

Statistical Policy Directive No. 4 Addendum: Release and Dissemination of Statistical Products Produced by Federal Statistical Agencies and Recognized Statistical Units

AGENCY: Executive Office of the President, Office of Management and Budget.

ACTION: Notice of Solicitation of Comments.

SUMMARY: Under the Budget and Accounting Procedures Act of 1950 (31 U.S.C. 1104 (d)) and the Paperwork Reduction Act of 1995 (44 U.S.C. 3504 (e)), the Office of Management and Budget (OMB) issues for comment a proposed Addendum to Statistical Policy Directive No. 4: Release and Dissemination of Statistical Products Produced by Federal Statistical Agencies (73 FR 12622, Mar. 7, 2008). This Addendum reflects the ongoing commitment of the Federal statistical system to ensure relevant, accurate, objective, and accessible Federal statistics to the Nation.

In its role as coordinator of the Federal statistical system under the Paperwork Reduction Act, OMB, among other responsibilities, is required to ensure the efficiency and effectiveness of the system. A key method used by OMB to achieve this responsibility is the promulgation and oversight of Government-wide principles, policies, standards, and guidelines concerning the development, presentation, and dissemination of statistical products. Accordingly, OMB proposes an Addendum to strengthen provisions in its Statistical Policy Directive No. 4. The Addendum would ensure systematic review of the production and dissemination of key statistical products of Federal statistical agencies and recognized statistical units and of how these products conform to the responsibilities identified in Statistical Policy Directive No. 1: Fundamental Responsibilities of Federal Statistical Agencies and Recognized Statistical Units (79 FR 71610, Dec. 2, 2014). Additional discussion of the proposed Addendum may be found in the SUPPLEMENTARY INFORMATION section below.

DATES: Comments and recommendations on the proposed Addendum detailed in this notice must be in writing. To ensure consideration of comments, they must be received no later than 45 days from the publication date of this notice. Because of delays in the receipt of regular mail related to security screening, respondents are encouraged to send comments electronically via email, or www.regulations.gov (discussed in ADDRESSES below).

ADDRESSES: Please send any comments or questions about this directive to: Katherine K. Wallman, Chief Statistician, Office of Management and Budget, 1800 G St., 9th Floor, Washington, DC 20503. You may also send comments or questions via email to Directive_No._4@omb.eop.gov or to www.regulations.gov—a Federal E-Government Web site that allows the public to find, review, and submit comments on documents that agencies have published in the Federal Register and that are open for comment. Simply type “OMB-2016-0003” (in quotes) in the Comment or Submission search box, click Go, and follow the instructions for submitting comments.

Comments submitted in response to this notice may be made available to the public through relevant Web sites. For this reason, please do not include in your comments information of a confidential nature, such as sensitive personal information or proprietary information. If you send an email comment, your email address will be automatically captured and included as part of the comment that is placed in the public docket. Please note that responses to this public comment request containing any routine notice about the confidentiality of the communication will be treated as public comments that may be made available to the public notwithstanding the inclusion of the routine notice.

This document is available on the Internet on the OMB Web site at www.whitehouse.gov/sites/default/files/omb/inforeg/directive4/frn_comment_stat_policy_dir_4_addendum.pdf.

FOR FURTHER INFORMATION CONTACT: Jennifer Park, 1800 G St., 9th Floor, Washington, DC 20503, email address: Directive_No._4@omb.eop.gov.

SUPPLEMENTARY INFORMATION: Background: The Nation relies on the flow of accurate, reliable, and independent statistics to support the decisions of governments, businesses, individuals, households, and other organizations. Federal statistical agencies release many of the statistics available about the United States' economy, population, natural resources, environment, and public and private institutions.

Consistent with the Information Quality Act (Pub. L. 106-554, Division C, title V, Sec. 515, Dec. 21, 2000; 114 Stat. 2763A-153 to 2763A-154) and in accordance with Statistical Policy Directive No. 1: Fundamental Responsibilities of Federal Statistical Agencies and Recognized Statistical Units (79 FR 71610, Dec. 2, 2014), it is the responsibility of Federal agencies engaging in statistical work to support the quality and accessibility of the Federal statistical information our Nation uses to monitor and assess performance, progress, and needs. It is therefore essential that Federal statistical agencies and recognized statistical units systematically evaluate and continuously improve the quality and accessibility of their statistical products.

Systematic review with the aim of continuous improvement is recognized in Federal guidelines provided in Statistical Policy Directive No. 3: Compilation, Release, and Evaluation of Principal Federal Economic Indicators (50 FR 38932, Sep. 25, 1985). Statistical Policy Directive No. 3 requires agencies that issue Principal Federal Economic Indicators (PFEIs) to submit performance evaluations of each PFEI to the Statistical Policy Office every three years. This review ensures that certain key statistical products are prepared and published in conformity with Federal information quality standards as framed in Statistical Policy Directive No. 1.

The requirements set forth in Statistical Policy Directive No. 3 pertain to PFEIs. However, several other Federal statistical products are also foundational to the interests of the public and the needs of the government. These span, for example, the measurement of educational attainment to the measurement of disability. Recognizing this need, OMB issued Statistical Policy Directive No. 4: Release and Dissemination of Statistical Products Produced by Federal Statistical Agencies (73 FR 12622, Mar. 7, 2008) to provide detailed guidance to Federal statistical agencies and recognized statistical units regarding the production and dissemination of statistical products other than PFEIs.

Development and Review: Statistical Policy Directive No. 4 remains a robust and comprehensive source of guidance. However, periodic updates and addenda ensure that this Directive remains most useful to Federal agencies.

In November 2014, OMB requested agency and department heads for selected Executive Branch agencies and departments to provide feedback on Statistical Policy Directive No. 1 through M-15-03 Department Support for Implementation of Statistical Policy Directive No. 1: Fundamental Responsibilities of Federal Statistical Agencies and Recognized Statistical Units. Responses identified best practices, new challenges, and areas in need of future support. Among the challenges noted was the desire for continuous self-improvement in the timeliness and accessibility of Federal statistical products in an era of modern data needs and information technology. Communicating these findings would support the Federal statistical system broadly in an effort to leverage efficiencies.

In response to this feedback, OMB examined its current guidance. Although similar in many respects to Statistical Policy Directive No. 3 (pertaining to PFEIs), one provision of Statistical Policy Directive No. 3 is not currently found in Statistical Policy Directive No. 4. Specifically, there is currently no provision in Statistical Policy Directive No. 4 for systematic agency self-review and reporting of its key statistical products for conformance with OMB information quality and statistical policy requirements. Systematic agency self-review is recognized in Statistical Policy Directive No. 1 as the cornerstone for continuous improvement of Federal statistical agencies' products and services. Additionally, these self-reviews would allow users to better evaluate the quality of the statistics produced by Federal statistical agencies and recognized statistical units.

Proposed Addendum: For ease of review, this Notice publishes the entirety of Statistical Policy Directive No. 4; the proposed Addendum appears here at the end of Statistical Policy Directive No. 4 in bold font as Section 10 Performance Review. This Addendum does not remove nor replace any of the standards and guidelines currently identified in Statistical Policy Directive No. 4. Instead, this Addendum is intended to expand on the guidelines as part of the continuing efforts of the Federal statistical system to ensure the relevance, accuracy, and objectivity of Federal statistics. The Addendum would apply to Federal statistical agencies and recognized statistical units as described in Section 3 Statistical Agencies or Units of Statistical Policy Directive No. 4. Agencies would identify specific, key statistical products to be reviewed, in consultation with OMB.

Issues for Comment: With this Notice, OMB seeks comments from all interested parties on the purpose, scope, and periodicity of the proposed agency reviews and reports on the production and dissemination procedures for key statistical products. In addition, OMB seeks comment from affected agencies on the expected benefits and burdens of the proposed Addendum.

Howard A. Shelanski,
Administrator, Office of Information and Regulatory Affairs.

Statistical Policy Directive No. 4: Release and Dissemination of Statistical Products Produced by Federal Statistical Agencies

Authority and Purpose

This Directive provides guidance to Federal statistical agencies on the release and dissemination of statistical products. The Directive is issued under the authority of the Budget and Accounting Procedures Act of 1950 (31 U.S.C. 1104(d)), the Paperwork Reduction Act (PRA) of 1995 (44 U.S.C. 3504(e)), and Office of Management and Budget (OMB) policies including the Information Quality Act guidelines (67 FR 8451-8460) and OMB Circular No. A-130. Under the Information Quality Act (Pub. L. 106-554, Division C, title V, Sec. 515, Dec. 21, 2000; 114 Stat. 2763A-153 to 2763A-154; 44 U.S.C. Section 3516 note) and associated guidelines, agencies are to maximize the quality, objectivity, utility, and integrity of information, including statistical information, provided to the public. This includes making information available on an equitable and timely basis. The procedures in this Directive are intended to ensure that statistical data releases adhere to data quality standards through equitable, policy-neutral, transparent, and timely release of information to the general public.

Introduction

Statistics produced by the Federal Government are used to shape policies, manage and monitor programs, identify problems and opportunities for improvement, track progress, and measure change. These statistics must meet high standards of reliability, accuracy, timeliness, and objectivity in order to provide a sound and efficient basis for decisions and actions by governments, businesses, households, and other organizations. These data must be objective and free of bias in their presentation and available to all in forms that are readily accessible and understandable.

To be collected and used efficiently, statistical products must gain and preserve the trust of the respondent and user communities; data must be collected and distributed free of any perceived or actual partisan intervention. Widespread recognition of the Federal statistical system's policy- neutral data collection and dissemination fosters such trust. This trust, in turn, engenders greater cooperation from respondents and higher quality statistics for data users.

1. Scope. This Statistical Policy Directive applies to the full range of statistical products disseminated by Federal statistical agencies or units. However, the Directive excludes coverage of the Principal Federal Economic Indicators addressed in Statistical Policy Directive No. 3, Compilation, Release, and Evaluation of Principal Federal Economic Indicators, which have their own established release and evaluation procedures. Unless otherwise specified in statute, statistical agencies or units are directly and solely responsible for the content, quality, and dissemination of their products. When implementing this Directive, statistical agencies must follow all relevant Statistical Policy Directives and guidance including the principles and practices presented in OMB's Information Quality Guidelines and Statistical Policy Directives providing standards and guidelines for statistical surveys.

2. Statistical Products. Statistical products are, generally, information dissemination products that are published or otherwise made available for public use that describe, estimate, forecast, or analyze the characteristics of groups, customarily without identifying the persons, organizations, or individual data observations that comprise such groups. Statistical products include general-purpose tabulations, analyses, projections, forecasts, or other statistical reports. For purposes of this Directive, a “statistical press release” is an announcement to media of a statistical product release that contains the title, subject matter, release date, and Internet address of, and other available information about the statistical product, as well as the name of the statistical agency issuing the product, and may include any executive summary information or key findings section as shown in the statistical product. A statistical press release announcing or presenting statistical data is defined as a statistical product and is covered by the provisions of this Directive. Federal statistical agencies or units may issue their statistical products in printed and/or electronic form, but must provide access to them on their Internet sites. Agencies should assess the needs of data users and provide a range of products to address those needs by whatever means practicable. Information to help users interpret data accurately, including transparent descriptions of the sources and methodologies used to produce the data, must be equitably available for Federal statistical products. With the exception of compilations of statistical information collected and assembled from other statistical products, these products shall contain or reference appropriate information on the strengths and limitations of the methodologies, data sources, and data used to produce them as well as other information such as explanations of other related measures to assist users in the appropriate treatment and interpretation of the data.

3. Statistical Agencies or Units. As identified under OMB's implementation guidance (72 FR 33362, 33368, June 15, 2007) for the Confidential Information Protection and Statistical Efficiency Act of 2002 (Pub. L. 107-347, Title V; 116 Stat. 2962; 44 U.S.C. Section 3501 note), a Federal statistical agency is an organizational unit of the executive branch whose activities are predominantly the collection, compilation, processing, or analysis of information for statistical purposes. Statistical purpose means the description, estimation, or analysis of the characteristics of groups, customarily without identifying the persons, organizations, or individual data observations that comprise such groups, as well as researching, developing, implementing, maintaining, or evaluating methods, administrative or technical procedures, or information resources that support such purposes. A statistical agency or unit may be labeled an administration, bureau, center, division, office, service, or similar title, so long as it is recognized as a distinct entity. When a statistical agency provides services for a separate sponsoring agency on a reimbursable basis, the provisions of this Directive normally shall apply to the sponsoring agency.

4. Timing of Release. The timing of the release of statistical products, including statistical press releases, regardless of physical form or characteristic, shall be the sole responsibility of the statistical agency or unit that is directly responsible for the content, quality, and dissemination of the data. Agencies should minimize the interval between the period to which the data refer and the date when the product is released to the public.

5. Notification of Release. Prior to the beginning of the calendar year, the releasing statistical agency shall annually provide the public with a schedule of when each regular or recurring statistical product is expected to be released during the upcoming calendar year by publishing it on its Web site. Agencies must issue any revisions to the release schedule in a timely manner on their Web sites.

6. Dissemination. Statistical agencies must ensure that all users have equitable and timely access to data that are disseminated to the public. If there are revisions to the data after an initial release, notification must also be given to the public about these changes in an equitable and timely manner. A statistical agency should strive for the widest, most accessible, and appropriate dissemination of its statistical products and ensure transparency in its dissemination practices by providing complete documentation of its dissemination policies on its Web site. The statistical agency is responsible for ensuring that this documentation remains accurate by reviewing and updating it regularly so that it reflects the agency's current dissemination practices. In unusual circumstances, the requirement that all users initially have equitable and timely access to statistical products may be waived by the releasing statistical agency if the head of the agency determines that the value of a particular type of statistical product, such as health or safety information, is so time-sensitive to specific stakeholders that normal procedures to ensure equitable and timely access to all users would unduly delay the release of urgent findings to those to whom the information is critical. All such instances must be reported to OMB within 30 calendar days of the agency's waiver determination.

Agencies should use a variety of vehicles to attain a data dissemination program designed to reach data users in an equitable and timely manner. Federal statistical agencies or units may issue their statistical products in printed and/or electronic form, but must provide access to them on their Internet sites. In undertaking any dissemination of statistical products, agencies must continue to ensure that they have fulfilled their responsibilities to preserve the confidentiality and security of respondent data. When appropriate to facilitate in-depth research, and feasible in the presence of resource constraints, statistical agencies should provide public access to microdata files with secure safeguards to protect the confidentiality of individually- identifiable responses and with readily accessible documentation, metadata, or other means to facilitate user access to and manipulation of the data.

Statistical agencies are encouraged to use a variety of forums and strategies to release their statistical products. These include conferences, exhibits, presentations, workshops, list serves, the Government Printing Office, public libraries, and outreach to the media including news conferences and statistical press releases as well as media briefings to improve the media's understanding of the data and the quality and extent of media coverage of the statistics.

a. Outreach to the Media

To accelerate and/or expand the dissemination of data to the public, statistical agencies are encouraged to issue a statistical press release when releasing their products. To maintain a clear distinction between statistical data and policy interpretations of such data, the statistical press release must be produced and issued by the statistical agency and must provide a policy-neutral description of the data; it must not include policy pronouncements. To the extent that any policy pronouncements are to be made regarding the data, those pronouncements are to be made by Federal executive policy officials, not by the statistical agency. Accordingly, these policy officials may issue separate independent statements on the data being released by the statistical agency, and policy officials of the issuing department may review the draft statistical press release to ensure that it does not include policy pronouncements.

In cases in which the statistical unit currently relies on its parent agency for the public affairs function, the statistical agency should coordinate with public affairs officials from the parent organization on the dissemination aspects of the statistical press release process, including planning and scheduling of annual release dates.

b. Pre-Release Access to Final Statistical Products

The purpose of pre-release access is to foster improved public understanding of the data when they are first released and the accuracy of any initial commentary about the information contained in the product. To support the goal of maximizing the public's access to informed discussions of the data when they are first released, statistical agencies may provide pre-release access to their final statistical products. A statistical product is final when the releasing statistical agency determines that the product fully meets the agency's data quality standards based on all presently available information and requires no further changes. Pre-release access to final statistical products may be provided under embargo or through secure pre-release access. The releasing statistical agency determines which final statistical products will be made available under these pre-release provisions and which method of pre- release will be employed.

c. Embargo

Embargo means that pre-release access is provided with the explicit acknowledgement of the receiving party that the information cannot be further disseminated or used in any unauthorized manner before a specific date and time.

The statistical agency may grant pre-release access via an embargo under the following conditions:

1. The agency shall establish arrangements and impose conditions on the granting of an embargo that are necessary to ensure that there is no unauthorized dissemination or use.

2. The agency shall ensure that any person or organization granted access under an embargo has been fully informed of, and has acknowledged acceptance of, these conditions.

3. In all cases, pre-release access via an embargo shall precede the official release time only to the extent necessary for an orderly release of the data.

4. If an embargo is broken, the agency must release the data to the public immediately.

d. Secure Pre-Release Access

For some data that are particularly sensitive or move markets, statistical agency heads may choose to provide secure pre-release access. Secure pre- release access means that pre-release access is provided only within the confines of secure physical facilities with no external communications capability. When the head of a releasing statistical agency determines that secure pre-release access is required, the agency shall provide pre-release access to final statistical products only when it uses secure pre-release procedures.

7. Announcement of Changes in Data Series. Statistical agencies shall announce, in an appropriate and accessible manner as far in advance of the change as possible, significant planned changes in data collection, analysis, or estimation methods that may affect the interpretation of their data series. In the first report affected by the change, the agency must include a complete description of the change and its effects and place the description on its Internet site, if the report is not otherwise available there.

8. Revisions and Corrections of Data. For some statistical products, statistical agencies produce preliminary estimates or initial releases that will subsequently be updated and finalized. Whenever preliminary data are released, they must be identified as preliminary and the release must indicate that an updated or final revision is expected. In applicable cases, the expected date of such revisions must be included. Reference to the preliminary release and appropriate explanations of the methodology and reasons for the revisions must be provided or referenced in any updated or final releases.

Consistent with each agency's information quality guidelines, statistical agencies must also establish and implement policies for handling unscheduled corrections due to previously unrecognized errors. Agencies have an obligation to alert users as quickly as possible to any such changes, to explain corrections or revisions that result from any unscheduled corrections, and to make appropriate changes in all product formats—including statistical press releases.

9. Granting of Exceptions. Prior to any action being taken that may be inconsistent with the provisions of this Directive, the head of a releasing statistical agency shall consult with OMB's Administrator for Information and Regulatory Affairs. If the Administrator determines that the action is inconsistent with the provisions of this Directive, the head of the releasing statistical agency may apply for an exception. The Administrator may authorize exceptions to the provisions in sections 4, 5, 6, 7, and 8 of this Directive. Any agency requesting an exception must demonstrate to the satisfaction of the Administrator that the proposed exception is necessary and is consistent with the purposes of this Directive.

Proposed Addendum

10. Performance Review. Each Federal statistical agency shall submit an annual performance review of the production and dissemination of its key statistical products to the Office of Information and Regulatory Affairs. Each agency will identify its key statistical products for review purposes, in consultation with OMB.

The review shall address the following issues:

(a) The accuracy and reliability of the series, e.g., the magnitude and direction of all revisions, the performance of the series relative to established benchmarks, and the proportion and effect of nonresponses or responses received after the publication of preliminary estimates;

(b) the accuracy, completeness, and accessibility of documentation describing the methods used in compiling and revising the product;

(c) the agency's performance in meeting its established release schedule and the prompt release objective of this Directive;

(d) the agency's ability to avoid disclosure prior to the scheduled release time;

(e) any additional issues (such as periodicity, electronic access, etc.) that the Administrator for Information and Regulatory Affairs specifies in writing to the agency at least 6 months in advance of the scheduled submission date.

The evaluation will be reviewed by the Administrator to determine whether the statistical products are prepared and published in conformity with OMB statistical policies, standards, and guidelines. A summary of the year's evaluations and their reviews will be included in the annual report to Congress required by the Paperwork Reduction Act (PRA) of 1995 (44 U.S.C. 3504(e)).

[FR Doc. 2016-25049 Filed 10-14-16; 8:45 am]

BILLING CODE P